DEPARTMENT OF ENERGY

Federal Energy Regulatory Commission

[Docket No. EC05-84-000, et al.]

FirstEnergy Corp, et al.; Electric Rate and Corporate Filings

May 25, 2005.

The following filings have been made with the Commission. The filings are listed in ascending order within each docket classification.

1. FirstEnergy Corp, on Behalf of the Cleveland Electric Illuminating Company, Ohio Edison Company, Pennsylvania Power Company, The Toledo Edison Company, FirstEnergy Solutions Corp., and FirstEnergy Nuclear Generation Corp.

[Docket No. EC05-84-000]

Take notice that on May 19, 2005, FirstEnergy Corp., on behalf of The Cleveland Electric Illuminating Company, Ohio Edison Company, Pennsylvania Power Company (Penn Power), and The Toledo Edison Company (collectively, FirstEnergy Operating Companies), FirstEnergy Solutions Corp. (Solutions), and FirstEnergy Nuclear Generation Corp. (Nuclear Genco) filed with the Federal Energy Regulatory Commission an application pursuant to section 203 of the Federal Power Act for authorization to transfer the FirstEnergy Operating Companies' ownership interests in Units 1 and 2 of the Beaver Valley Generating Station, the Davis-Besse Nuclear Generating Station, and the Perry Nuclear Generating Station (collectively, Nuclear Assets) to Nuclear Genco, which is a newly-formed generation-only company that is affiliated with the FirstEnergy Operating Companies. Applicants state that it further requested authorization for the stock of Nuclear Genco, which initially will be owned by Penn Power, to be transferred to Solutions after the asset transfers have occurred, such that Nuclear Genco will become a direct, wholly-owned subsidiary of Solutions.

Comment Date: 5 p.m. eastern time on June 9, 2005.

2. TransCanada PipeLines Limited, TransCanada Power Services Ltd., TransCanada Power, L.P., TransCanada Energy Ltd., TransCanada Power Marketing Ltd., TC Power Operations Ltd., TransCanada PipeLines Services Ltd., TCPL International Investments Inc., 701671 Alberta Ltd., 812287 Alberta Ltd., 812269 Alberta Ltd., EPCOR Power Projects (Washington) Inc.

[Docket No. EC05-85-000]

Take notice that on May 23, 2005, TransCanada PipeLines Limited (TCPL), TransCanada Power Services Ltd. (TCPS), TransCanada Power, L.P. (TCP), TransCanada Energy Ltd. (TCE), TransCanada Power Marketing Ltd. (TCPM), TC Power Operations Ltd. (TCPOL), TransCanada PipeLines Services Ltd. (TCPLS), TCPL International Investments Inc. (TCPLII), 701671 Alberta Ltd. (70167), 812287 Alberta Ltd. (Acquire LP Co), 812269 Alberta Ltd. (Acquire GP Co) and EPCOR Power Projects (Washington) Inc. (EPCOR US Co) (jointly, Applicants) filed pursuant to section 203 of the Federal Power Act an application requesting authorization for the sale and transfer to Acquire GP Co and Acquire LP Co of: (i) The outstanding shares in TCPS which currently are held by TCPL; and (ii) the limited partnership interests in TCP which currently are held by TCPL and TCE. Applicants also requested authorization for the sale and transfer of certain management agreements from TCPM and TCPOL to EPCOR US Co.

Comment Date: 5 p.m. Eastern Time on June 11, 2005.

3. PJM Interconnection, L.L.C.

[Docket No. ER05-1010-000]

Take notice that on May 23, 2005, PJM Interconnection, L.L.C. (PJM) submitted for filing an unexecuted interconnection service agreement and an unexecuted construction service agreement among PJM, Neptune Regional Transmission System, L.L.C. and Jersey Central Power & Light Company a FirstEnergy company. PJM requests an effective date of May 20, 2005.

PJM states that copies of this filing were served upon the parties to the agreements and the state regulatory commissions within the PJM region.

Comment Date: 5 p.m. on June 3, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Linda Mitry,
Deputy Secretary.

[FR Doc. E5-2790 Filed 6-1-05; 8:45 am]

BILLING CODE 6717-01-P